DEPARTMENT OF THE INTERIOR

National Park Service

[NPS-WASO-NAGPRA-10949; 2200-1100-665]

Notice of Inventory Completion: Herrett Center for Arts and Science, College of Southern Idaho, Twin Falls, ID

AGENCY: National Park Service, Interior.

ACTION: Notice.

SUMMARY: The Herrett Center for Arts and Science, College of Southern Idaho, has completed an inventory of human remains and associated funerary objects in consultation with the appropriate Indian tribes, and has determined that there is a cultural affiliation between the human remains and associated funerary object and present-day Indian tribes. Representatives of any Indian tribe that believes itself to be culturally affiliated with the human remains and associated funerary object may contact the Herrett Center for Arts and Science, College of Southern Idaho. Repatriation of the human remains and associated funerary object to the Indian tribes stated below may occur if no additional claimants come forward.

DATES: Representatives of any Indian tribe that believes it has a cultural affiliation with the human remains and associated funerary object should contact the Herrett Center for Arts and Science at the address below by September 24, 2012.

ADDRESSES: Phyllis Oppenheim, Collections Manager, Herrett Center for Arts and Science, College of Southern Idaho, P.O. Box 1238, Twin Falls, ID 83303-1238, telephone (208) 732-6660.

SUPPLEMENTARY INFORMATION: Notice is here given in accordance with the Native American Graves Protection and Repatriation Act (NAGPRA), 25 U.S.C. 3003, of the completion of an inventory of human remains and associated funerary object in the possession of the Herrett Center for Arts and Science. The human remains and associated funerary object were removed from an unknown location in Arizona.

This notice is published as part of the National Park Service's administrative responsibilities under NAGPRA, 25 U.S.C. 3003(d)(3). The determinations in this notice are the sole responsibility of the museum, institution, or Federal agency that has control of the Native American human remains and associated funerary object. The National Park Service is not responsible for the determinations in this notice.

Consultation

A detailed assessment of the human remains was made by the Herrett Center for Arts and Science professional staff in consultation with representatives of the Gila River Indian Community of the Gila River Indian Reservation, Arizona (on behalf of themselves and the Ak-Chin Indian Community of the Maricopa (Ak Chin) Indian Reservation, Arizona; Salt River Pima-Maricopa of the Salt River Reservation, Arizona; and the Tohono O'odham Nation of Arizona); Hopi Tribe of Arizona; and the Zuni Tribe of the Zuni Reservation, New Mexico (hereafter referred to as “The Tribes”).

History and Description of the Remains

At an unknown date, human remains representing, at minimum, one individual were removed from an unknown location in Arizona. In 1975, the human remains and associated funerary object were donated to the Herrett Center for Arts and Science, College of Southern Idaho, by the family of James H. Berkley. No known individuals were identified. The one associated funerary object is a ceramic cremation vessel with a lid. The human remains are a cremation, which together with the ceramic cremation vessel, is associated with the Sedentary Period of the Sacaton Phase, dating from A.D. 900-1100. The evidence provided by this burial practice, the associated funerary object, and the geographical provenience of the human remains and associated funerary object supports a cultural affiliation to the Hohokam culture.

Cultural continuity between the prehistoric occupants of the region and present-day O'odham and Puebloan peoples is supported by continuities in settlement patterns, architectural technologies, basketry, textiles, ceramic technology, ritual practices, and oral traditions. Documentation submitted by representatives of the Gila River Indian Community of the Gila River Indian Reservation, Arizona establishes cultural continuities between the ancient Hohokam and present-day O'odham tribes. The descendants of the O'odham peoples of the area described above are members of the Ak-Chin Indian Community of the Maricopa (Ak Chin) Indian Reservation, Arizona; Gila River Indian Community of the Gila River Indian Reservation, Arizona; Salt River Pima-Maricopa Indian Community of the Salt River Reservation, Arizona; and the Tohono O'odham Nation of Arizona. The descendants of the Puebloan peoples of the area described above are members of the Hopi Tribe of Arizona and the Zuni Tribe of the Zuni Reservation, New Mexico.

Determinations Made by the Herrett Center for Arts and Science, College of Southern Idaho

Officials of the Herrett Center for Arts and Science, College of Southern Idaho, have determined that:

• Pursuant to 25 U.S.C. 3001(9), the human remains described in this notice represent the physical remains of one individual of Native American ancestry.

• Pursuant to 25 U.S.C. 3001(3)(A), the one object described above is reasonably believed to have been placed with or near individual human remains at the time of death or later as part of the death rite or ceremony.

• Pursuant to 25 U.S.C. 3001(2), there is a relationship of shared group identity that can be reasonably traced between the Native American human remains and associated funerary object and The Tribes.

Additional Requestors and Disposition

Representatives of any Indian tribe that believes itself to be culturally affiliated with the human remains and associated funerary object should contact Phyllis Oppenheim, Collections Manager, Herrett Center for Arts and Science, College of Southern Idaho, PO Box 1238, Twin Falls, ID 83303-1238, telephone (208) 732-6660, before September 24, 2012. Repatriation of the human remains and associated funerary object to The Tribes may proceed after that date if no additional claimants come forward.

The Herrett Center for Arts and Science is responsible for notifying The Tribes that this notice has been published.

Dated: July 26, 2012.
Melanie O'Brien,
Acting Manager, National NAGPRA Program.

[FR Doc. 2012-20959 Filed 8-23-12; 8:45 am]

BILLING CODE 4312-50-P